NUCLEAR REGULATORY COMMISSION

[Docket No. 040-08794]

Notice of Consideration of Amendment Request for Molycorp, Inc., York, PA, Site and Opportunity for a Hearing

The U.S. Nuclear Regulatory Commission (NRC) is considering issuance of a license amendment to Source Materials License SMB-1408 issued to Molycorp, Inc., (Molycorp), to defer the second round of sampling groundwater monitoring wells in 2001 at the Molycorp, York, PA, site until the completion of its decommissioning activities in 2002. Molycorp's license requires that samples are to be drawn from designated wells biannually. One round of groundwater sampling results was submitted to NRC in March 2001, with the reported data below levels of concern. Molycorp then plugged and abandoned all existing groundwater wells on site in order to proceed with decommissioning. Due to the increased volume of contaminated soil encountered during the decommissioning of the York facility, and the extension of decommissioning activities, Molycorp will not be able to reinstall and sample the monitoring wells in 2001. Prior to installing the new wells, Molycorp has committed to confer with both NRC and the Pennsylvania Department of Environmental Protection to ensure that the new well locations are satisfactory. Molycorp shall install the new wells following the completion of decommissioning activities in 2002, and will sample the new wells on a biannual basis until its license is terminated. Molycorp's request is contained in a letter to NRC dated November 19, 2001.

If the NRC approves this request, the approval will be documented in a license amendment to NRC License SMB-1408. However, before approving the proposed amendment, the NRC will need to make the findings required by the Atomic Energy Act of 1954, as amended, and NRC's regulations. These findings will be documented in a safety evaluation report and an environmental assessment.

NRC hereby provides notice that this is a proceeding on an application for an amendment of a license falling within the scope of Subpart L, “Informal Hearing Procedures for Adjudication in Materials Licensing Proceedings,” of NRC's rules of practice for domestic licensing proceedings in 10 CFR part 2. Pursuant to § 2.1205(a), any person whose interest may be affected by this proceeding may file a request for ahearing in accordance with § 2.1205(d). A request for a hearing must be filed within thirty (30) days of the date of publication of this Federal Register notice.

The request for a hearing must be filed with the Office of the Secretary by mail or facsimile (301-415-1101) addressed to: The Rulemaking and Adjudications Staff of the Office of the Secretary, U.S. Nuclear Regulatory Commission, Washington, DC 20555-0001. Attention: Rulemakings and Adjudications Staff.

In accordance with 10 CFR 2.1205(f), each request for a hearing must also be served, by delivering it personally, or by mail, to:

1. The applicant, Molycorp, Inc., 300 Caldwell Avenue, Washington, PA 15301, Attention: George Dawes, and,

2. The NRC staff, General Counsel, by mail, addressed to the General Counsel, U.S. Nuclear Regulatory Commission, Washington, DC 20555-0001.

In addition to meeting other applicable requirements of 10 CFR part 2 of NRC's regulations, a request for a hearing filed by a person other than an applicant must describe in detail:

1. The interest of the requester in the proceeding;

2. How that interest may be affected by the results of the proceeding, including the reasons why the requester should be permitted a hearing, with particular reference to the factors set out in § 2.1205(h);

3. The requester's areas of concern about the licensing activity that is the subject matter of the proceeding; and,

4. The circumstance establishing that the request for a hearing is timely in accordance with § 2.1205(d).

FOR FURTHER INFORMATION CONTACT: The application for the license amendment and supporting documentation are available for inspection at NRC's Public Electronic Reading Room at http://www.nrc.gov/NRC/ADAMS/index.html. Any questions with respect to this action should be referred to Tom McLaughlin, Decommissioning Branch, Division of Waste Management, Office of Nuclear Material Safety and Safeguards, U.S. Nuclear Regulatory Commission, Washington, DC 20555-0001.

Telephone: (301) 415-5869. Fax: (301) 415-5398.

Dated at Rockville, Maryland, this 27th day of December 2001.
For the Nuclear Regulatory Commission.
Tom McLaughlin,
Project Manager, Facilities Decommissioning Section, Decommissioning Branch, Division of Waste Management, Office of Nuclear Material Safety and Safeguards.

[FR Doc. 02-230 Filed 1-3-02; 8:45 am]

BILLING CODE 7590-01-P